NATIONAL FOUNDATION ON THE ARTS AND THE HUMANITIES

Sunshine Act Meeting; National Museum and Library Services Board

AGENCY: Institute of Museum and Library Services (IMLS), NFAH.

ACTION: Notice of meeting.

SUMMARY: This notice sets forth the agenda of the forthcoming meeting of the National Museum and Library Services Board. This notice also describes the function of the Board. Notice of the meeting is required under the Sunshine in Government Act.

TIME AND DATE: Saturday, April 28, 2012 from 8:30 a.m. until 3:30 p.m.

AGENDA: Twenty-Fifth Meeting of the National Museum and Library Service Board Meeting:

8:30 a.m.-10:30 a.m. Jury Meeting to consider the National Medals for Museum Services.

8:30 a.m.-10:30 a.m. Jury Meeting to consider the National Medals for Library Services.

(Closed to the Public)

10:30 p.m.-12:15 p.m. Executive Session and Jury Recommendations.

(Closed to the Public)

12:45 p.m.-3:30 p.m. Twenty-Fifth National Museum and Library Services Board Meeting:

I. Welcome

II. Approval of Minutes

III. Financial Update

IV. Legislative Update

V. Program Updates

VI. Board Program

VII. Adjournment

(Open to the Public)

PLACE: The meetings will be held in the Doty Library Board Room at the Minneapolis Central Library, 300 Nicollet Mall, Minneapolis, MN 55401.

FOR FURTHER INFORMATION CONTACT: Elizabeth Lyons, Special Events and Board Liaison, Institute of Museum and Library Services, 1800 M Street NW., 9th Floor, Washington, DC 20036. Telephone: (202) 653-4676.

SUPPLEMENTARY INFORMATION: The National Museum and Library Services Board is established under the Museum and Library Services Act, 20 U.S.C. Section 9101 et seq. The Board advises the Director of the Institute on general policies with respect to the duties, powers, and authority of the Institute relating to museum, library, and information services.

The Jury Meetings to consideration the National Medal for Museum and Library Services from 8:30 a.m. until 10:30 a.m. and the Executive Session/Jury Recommendations from 10:30 a.m. until 12:15 p.m. on Saturday, April 28, 2012, will be closed pursuant to subsections (c)(4) and (c)(9) of section 552b of Title 5, United States Code because the Board will consider information that may disclose: Trade secrets and commercial or financial information obtained from a person and privileged or confidential; and information the premature disclosure of which would be likely to significantly frustrate implementation of a proposed agency action. The meeting from 12:45 p.m. until 3:30 p.m. on Saturday, April 28, 2012 is open to the public.

If you need special accommodations due to a disability, please contact: Institute of Museum and Library Services, 1800 M Street NW., 9th Fl., Washington, DC 20036. Telephone: (202) 653-4676; TDD (202) 653-4614 at least seven (7) days prior to the meeting date.

Dated: April 18, 2012.
Nancy Weiss,
General Counsel.

[FR Doc. 2012-9883 Filed 4-24-12; 8:45 am]

BILLING CODE 7536-01-P